DEPARTMENT OF ENERGY

Federal Energy Regulatory Commission

Combined Notice of Filings #2

Take notice that the Commission received the following electric rate filings:

Docket Numbers: ER18-1489-001; ER13-1101-026; ER13-1541-025; ER14-661-016; ER14-787-019; ER15-1475-011; ER15-2593-010; ER15-54-010; ER15-55-010; ER16-1154-008; ER16-1882-003; ER16-452-009; ER16-705-007; ER16-706-007; ER17-2508-002; ER17-252-003; ER17-532-002.

Applicants: SP Cimarron I, LLC, Parrey, LLC, Spectrum Nevada Solar, LLC, Campo Verde Solar, LLC, SG2 Imperial Valley LLC, Macho Springs Solar, LLC, Lost Hills Solar, LLC, Blackwell Solar, LLC, North Star Solar, LLC, Desert Stateline LLC, RE Tranquillity LLC, RE Garland A LLC, RE Garland LLC, Boulder Solar Power, LLC, RE Gaskell West 1 LLC, PPA Grand Johanna LLC, 2016 ESA Project Company, LLC.

Description: Amendment to June 28, 2019 Triennial Updated Market Power Analysis (Exhibits) for the Southwest Region of the Southern Company Affiliated MBR Sellers.

Filed Date: 4/30/20.

Accession Number: 20200430-5494.

Comments Due: 5 p.m. ET 5/21/20.

Docket Numbers: ER19-1240-001; ER19-1241-001; ER19-1242-001.

Applicants: Sage Solar I LLC, Sage Solar II LLC, Sage Solar III LLC.

Description: Notice of Change in Status filing of Sage Solar I LLC, et al.

Filed Date: 4/30/20.

Accession Number: 20200430-5496.

Comments Due: 5 p.m. ET 5/21/20.

Docket Numbers: ER20-1741-000.

Applicants: Florida Power & Light Company.

Description: § 205(d) Rate Filing: FPL Amendments to Open Access Transmission Tariff to be effective 12/31/9998.

Filed Date: 5/1/20.

Accession Number: 20200501-5282.

Comments Due: 5 p.m. ET 5/22/20.

Docket Numbers: ER20-1742-000.

Applicants: San Diego Gas & Electric Company.

Description: Compliance filing: Order No. 864 Compliance Filing to be effective 1/27/2020.

Filed Date: 5/1/20.

Accession Number: 20200501-5285.

Comments Due: 5 p.m. ET 5/22/20.

Docket Numbers: ER20-1743-000.

Applicants: Gulf Power Company.

Description: § 205(d) Rate Filing: Amendments to Open Access Transmission Tariff to be effective 12/31/9998.

Filed Date: 5/1/20.

Accession Number: 20200501-5286.

Comments Due: 5 p.m. ET 5/22/20.

Docket Numbers: ER20-1744-000.

Applicants: Florida Power & Light Company.

Description: § 205(d) Rate Filing: FPL and LCEC Amendments to Rate Schedule FERC No. 317 to be effective 12/31/9998.

Filed Date: 5/1/20.

Accession Number: 20200501-5289.

Comments Due: 5 p.m. ET 5/22/20.

Docket Numbers: ER20-1745-000.

Applicants: Florida Power & Light Company.

Description: § 205(d) Rate Filing: FPL and FKEC Amendments to Rate Schedule FERC No. 322 to be effective 12/31/9998.

Filed Date: 5/1/20.

Accession Number: 20200501-5292.

Comments Due: 5 p.m. ET 5/22/20.

Docket Numbers: ER20-1746-000.

Applicants: GridLiance West LLC.

Description: Compliance filing: GridLiance West Order No. 864 Compliance Filing to be effective 1/27/2020.

Filed Date: 5/1/20.

Accession Number: 20200501-5296.

Comments Due: 5 p.m. ET 5/22/20.

Docket Numbers: ER20-1747-000.

Applicants: South Fork Wind, LLC.

Description: Baseline eTariff Filing: South Fork MBR Tariff Filing to be effective 5/1/2020.

Filed Date: 5/1/20.

Accession Number: 20200501-5305.

Comments Due: 5 p.m. ET 5/22/20.

Docket Numbers: ER20-1748-000.

Applicants: Ewington Energy Systems, LLC.

Description: Baseline eTariff Filing: Ewington Energy MBR Tariff Filing to be effective 5/1/2020.

Filed Date: 5/1/20.

Accession Number: 20200501-5306.

Comments Due: 5 p.m. ET 5/22/20.

Docket Numbers: ER20-1749-000.

Applicants: Pacific Gas and Electric Company.

Description: Tariff Cancellation: Notice of Termination Vistra Energy E&P Agreement (SA 2100 EP-24) to be effective 7/1/2020.

Filed Date: 5/1/20.

Accession Number: 20200501-5307.

Comments Due: 5 p.m. ET 5/22/20.

Docket Numbers: ER20-1750-000.

Applicants: Southwest Power Pool, Inc.

Description: § 205(d) Rate Filing: Roughrider Electric Cooperative, Inc. Formula Rate to be effective 7/1/2020.

Filed Date: 5/1/20.

Accession Number: 20200501-5312.

Comments Due: 5 p.m. ET 5/22/20.

Take notice that the Commission received the following electric securities filings:

Docket Numbers: ES20-34-000; ES20-35-000; ES20-36-000. ES20-37-000; ES20-38-000; ES20-39-000.

Applicants: Entergy Arkansas, LLC, Entergy Louisiana, LLC, Entergy Mississippi, LLC, Entergy New Orleans, LLC, Entergy Texas, Inc., System Energy Resources, Inc.

Description: Joint Application Under Section 204 of the Federal Power Act for Authorization to Issue Securities of Entergy Arkansas, LLC, et al.

Filed Date: 4/30/20.

Accession Number: 20200430-5491.

Comments Due: 5 p.m. ET 5/21/20.

Take notice that the Commission received the following public utility holding company filings:

Docket Numbers: PH20-10-000.

Applicants: Riverstone Management Group, L.L.C., Riverstone Holdings LLC.

Description: Riverstone Management Group, L.L.C. et al. submits FERC 65-B Updated Waiver Notification.

Filed Date: 4/30/20.

Accession Number: 20200430-5488.

Comments Due: 5 p.m. ET 5/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2020.
Nathaniel J. Davis, Sr.,
Deputy Secretary.

[FR Doc. 2020-09759 Filed 5-6-20; 8:45 am]

BILLING CODE 6717-01-P